FEDERAL DEPOSIT INSURANCE CORPORATION

12 CFR Part 327

RIN 3064-AD08

One-Time Assessment Credit

AGENCY: Federal Deposit Insurance Corporation.

ACTION: Proposed rule; extension of comment period.

SUMMARY: On May 18, 2006, the Federal Deposit Insurance Corporation (FDIC) issued a notice of proposed rulemaking with request for comments on the implementation of the one-time assessment credit for certain eligible insured depository institutions, as required by the Federal Deposit Insurance Act, as amended by the Federal Deposit Insurance Reform Act (“Reform Act”) (see 71 FR 28809). The FDIC is extending the comment period on that notice of proposed rulemaking to August 16, 2006. This action will allow interested persons additional time to analyze the issues and prepare their comments.

DATES: Comments must be received on or before August 16, 2006.

ADDRESSES: You may submit comments, identified by RIN number 3064-AD08 by any of the following methods:

• Agency Web site: http://www.FDIC.gov/regulations/laws/federal/propose.html.

• Mail: Robert E. Feldman, Executive Secretary, Attention: Comments/Legal ESS, Federal Deposit Insurance Corporation, 550 17th Street, NW., Washington, DC 20429.

• Hand Delivered/Courier: The guard station at the rear of the 550 17th Street Building (located on F Street), on business days between 7 a.m. and 5 p.m.

• E-mail: comments@FDIC.gov. Include RIN number 3064-AD08 in the subject line of the message.

Instructions: Submissions received must include the agency name and RIN for this rulemaking. Comments received will be posted without change to http://www.FDIC.gov/regulations/laws/federal/propose.html, including any personal information provided.

FOR FURTHER INFORMATION CONTACT: Munsell W. St. Clair, Senior Policy Analyst, Division of Insurance and Research, (202) 898-8967; Donna M. Saulnier, Senior Assessment Policy Specialist, Division of Finance, (703) 562-6167; and Kymberly K. Copa, Counsel, Legal Division, (202) 898-8832.

SUPPLEMENTARY INFORMATION: On May 18, 2006, the FDIC requested comment on its proposal to implement the one-time assessment credit. The proposed rule addresses: the aggregate amount of the one-time credit; the institutions that are eligible to receive credits; and the amount of each eligible institution's credit, which for some institutions may be largely dependent on how the FDIC defines “successor” for these purposes. The proposed rule also would establish the qualifications and procedures governing the application of assessment credits, and provide a reasonable opportunity for an institution to challenge administratively the amount of the credit.

The proposed rule on the one-time assessment credit is just one of three notices of proposed rulemaking to implement certain aspects of the Reform Act published by the FDIC on the same date. At that time, the FDIC also published proposed rules on dividends (see 71 FR 28804) and certain procedural and operational changes to its risk-based assessments regulations in part 327 (see 71 FR 28790). In addition, the Reform Act requires the FDIC to prescribe rules on the designated reserve ratio and risk-based assessments. Those proposed rules are expected to be published in the coming weeks.

The FDIC has determined that it would be most effective for comment purposes to have a longer period of overlap between the pending proposed rules on credits, dividends, and operational changes to the risk-based assessments regulations, and the upcoming proposed rules on the designated reserve ratio and risk-based assessments. All of these proposals relate in one way or another to risk-based assessments, and commenters should have a period of time during which they could, if they so choose, review all of the proposals together.

Recently, ING Bank, fsb and Nationwide Bank requested that the FDIC extend the closing date for comments on the pending proposed rules to coincide with the closing date for comments on the upcoming proposed rules. While the FDIC understands the concerns expressed, a 30-day extension should provide sufficient comment period overlap to permit all of the proposals to be reviewed together, giving interested parties 90 days to comment on the three pending proposals and allowing FDIC staff to consider all comments in a timely manner.

Dated at Washington, DC this 20th day of June, 2006.
By order of the Board of Directors.
Federal Deposit Insurance Corporation.
Robert E. Feldman,
Executive Secretary.

[FR Doc. 06-5839 Filed 6-27-06; 8:45 am]

BILLING CODE 6714-01-P